DEPARTMENT OF STATE

[Public Notice 4886]

Bureau of Nonproliferation: Determination Under the Foreign Assistance Act and Several Foreign Operations and Related Programs Appropriations Acts

AGENCY: Department of State.

ACTION: Notice.

Pursuant to Section 654(c) of the Foreign Assistance Act of 1961, as amended, notice is hereby given that the Deputy Secretary of State has made a determination pursuant to section 620H of the Foreign Assistance Act, and Section 543 of the Foreign Operations, Export Financing and Related Programs Appropriations, Division D, of the Consolidated Appropriations Resolution, 2004 (Pub. L. 108-199) and similar provisions in previous year Foreign Operations, Export Financing, and Related Programs Appropriations Acts, and Executive Order 12163, as amended. The Deputy Secretary of State has concluded that publication of the determination would be harmful to the national security of the United States.

Dated: October 28, 2004.
Susan F. Burk,
Acting Assistant Secretary of State for Nonproliferation, Department of State.

[FR Doc. 04-24845 Filed 11-5-04; 8:45 am]

BILLING CODE 4710-27-P